DEPARTMENT OF STATE

Bureau of Nonproliferation

[Public Notice 4120]

Imposition of Lethal Military Equipment Sanctions Against the Government of Russia and Waiver of These Sanctions and Imposition of Discretionary Measures Against Three Russian Entities

AGENCY: Department of State.

ACTION: Notice.

SUMMARY: The United States Government has determined that the Government of Russia transferred lethal military equipment to countries determined by the Secretary of State to be state sponsors of terrorism. The United States Government determined that, despite the transfers, furnishing assistance to the Government of Russia, (excluding the three entities responsible for the transfer should they be otherwise eligible for assistance) is important to the national interest of the United States. Further, it is the policy of the United States Government to deny all U.S. Government assistance, contracts, and defense-related licenses to these entities.

EFFECTIVE DATE: August 13, 2002.

FOR FURTHER INFORMATION CONTACT: On general issues: Ron Parson, Office of Export Controls and Conventional Arms Nonproliferation Policy, Bureau of Nonproliferation, Department of State, (202-647-0397).

SUPPLEMENTARY INFORMATION: Pursuant to provisions of Section 620H of the Foreign Assistance Act (FAA) of 1961, as amended (22 U.S.C. 2378) and Section 544 of the Foreign Operations, Export Financing, and Related Programs Appropriations Act, Fiscal Year 2002 (Pub. L. 107-115), and Executive Order 12163, as amended, on August 2, 2002, the United States Government determined that the Government of Russia provided lethal military equipment to countries determined by the Secretary of State to be state sponsors of terrorism. Also on August 2, 2002 and pursuant to the aforementioned provisions of law, the United States Government determined that furnishing assistance restricted by these provisions to the Russian Government, with the exceptions that follow, is important to the national interests of the United States. As a matter of policy, United States Government assistance to the following three entities, to the extent they are otherwise eligible, United States Government procurement contracts, new licenses and other approvals for exports of defense articles and services to, and, where appropriate, imports of defense articles and services from, the entities, are prohibited. Exceptions to these restrictions may be considered on a case by case basis where the Department of State determines that United States Government interests would be best served by such an exception.

Tula Design Bureau of Instrument Building (Tula KBP);

The State Scientific Production Enterprise Bazalt (Bazalt);

Rostov Airframe Plant 168 (Rostvertol).

These measures shall be implemented by the responsible departments and agencies of the United States Government and will remain in place for one year.

Dated: September 6, 2002.
Susan Burk,
Acting Assistant Secretary of State for Nonproliferation, Department of State.

[FR Doc. 02-23240 Filed 9-11-02; 8:45 am]

BILLING CODE 4710-27-P